DEPARTMENT OF AGRICULTURE

Forest Service

Winema and Fremont Resource Advisory Committee

AGENCY: Forest Service, USDA.

ACTION: Notice of meeting.

SUMMARY: The Winema and Fremont Resource Advisory Committee will meet in Bly, Oregon, for the purpose of developing recommendations for the Winter Fire Rehabilitation Project on the Fremont National Forest.

DATES: The meeting will be held on November 14, 2002.

ADDRESSES: The meeting will be held in the conference room of the Bly Ranger District, Highway 31, in Bly. Send written comments to Winema and Fremont Resource Advisory Committee, c/o USDA Forest Service, P.O. Box 67, Paisley OR 97636, or electronically to waney@fs.fed.us.

FOR FURTHER INFORMATION CONTACT: W.C. (Bill) Aney, Designated Federal Official, Paisley Ranger District, Fremont and Winema National Forests, P.O. Box 67, Paisley OR 97636, telephone (541) 943-4401.

SUPPLEMENTARY INFORMATION: The meeting will begin at 12:30 p.m. on Thursday, November 14 and end at approximately 4:30 p.m. The agenda will include a review of Forest Plan standards and guidelines related to fire salvage and rehabilitation, supplemental information used to help develop projects, and development of a proposed action by the project interdisciplinary planning team.

All Winema and Fremont Resource Advisory Committee Meetings are open to the public. There will be a time for public input and comment. Interested citizens are encouraged to attend.

Dated: October 15, 2002.
Steven A. Ellis,
Acting Forest Supervisor.

[FR Doc. 02-27327 Filed 10-28-02; 8:45 am]

BILLING CODE 3410-11-M